DEPARTMENT OF HOMELAND SECURITY

Coast Guard

46 CFR Part 2

[Docket No. USCG-2007-27668]

RIN 1625-AB35

Approval of Classification Societies

AGENCY: Coast Guard, DHS.

ACTION: Proposed rule; reopening of comment period.

SUMMARY: The Coast Guard is reopening the comment period before issuing a final rule regarding the Approval of Classification Societies (USCG-2007-27668). We previously published a notice of proposed rulemaking (NPRM) proposing application procedures and performance standards that classification societies must meet in order to obtain approval by the Coast Guard before conducting work in the United States. We published the proposed regulations to implement the requirements imposed by the Coast Guard and Maritime Transportation Act of 2004, but before the publication of the final rule, the Coast Guard Authorization Act of 2010 changed the applicability to require that all classification societies be approved by the Coast Guard prior to conducting any work on a vessel in the United States. The published NPRM proposed allowing full members of the International Association of Classification Societies (IACS) to be exempt from Coast Guard approval prior to working in the United States. Because of the Coast Guard Authorization Act of 2010, we are reopening the comment period to allow for any additional or updated comments from the public before publishing the final rule.

DATES: Comments and related material must either be submitted to our online docket via http://www.regulations.gov on or before September 6, 2011 or reach the Docket Management Facility by that date.

ADDRESSES: You may submit comments identified by docket number USCG-2007-27668 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

Viewing incorporation by reference material: You may inspect the material proposed for incorporation by reference at Room 2100, U.S. Coast Guard Headquarters, 2100 Second Street, SW., Washington, DC 20593-0001 between 9 a.m. and 5 p.m., Monday through Friday, except Federal holidays. The telephone number is 202-267-6716. Copies of the material are available as indicated in the “Incorporation by Reference” section of this preamble.

FOR FURTHER INFORMATION CONTACT: If you have questions on this proposed rule, call or e-mail LT Alfred Giordano, Coast Guard; telephone 202-372-1362, e-mail Alfred.J.Giordano@uscg.mil. If you have questions on viewing or submitting material to the docket, call Renee V. Wright, Program Manager, Docket Operations, telephone 202-366-9826.

SUPPLEMENTARY INFORMATION:

I. Public Participation and Request for Comments

We encourage you to participate in this rulemaking by submitting comments and related materials. All comments received will be posted without change to http://www.regulations.gov and will include any personal information you have provided.

A. Submitting Comments

If you submit a comment, please include the docket number for this rulemaking (USCG-2007-27668), indicate the specific section of this document to which each comment applies, and provide a reason for each suggestion or recommendation. You may submit your comments and material online or by fax, mail, or hand delivery, but please use only one of these means. We recommend that you include your name and a mailing address, an e-mail address, or a phone number in the body of your document so that we can contact you if we have questions regarding your submission.

To submit your comment online, go to http://www.regulations.gov, click on the “submit a comment” box, which will then become highlighted in blue. In the “Document Type” drop down menu select “Proposed Rule” and insert “USCG-2007-27668” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope.

We will consider all comments and material received during the comment period and may change this proposed rule based on your comments.

B. Viewing Comments and Documents

To view comments, as well as documents mentioned in this preamble as being available in the docket, go to http://www.regulations.gov, click on the “read comments” box, which will then become highlighted in blue. In the “Keyword” box insert “USCG-2007-27668” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not now plan to hold a public meeting. But you may submit a request for one to the docket using one of the methods specified under ADDRESSES. In your request, explain why you believe a public meeting would be beneficial. If we determine that one would aid this rulemaking, we will hold one at a time and place announced by a later notice in the Federal Register.

II. Background

We published a notice of policy and a request for comments that outlined the procedures by which classification societies could apply for approval with the Coast Guard. See 69 FR 63548 (November 2, 2004). This notice of policy was based on the August 9, 2004 enactment of Section 413 of the Coast Guard and Maritime Transportation Act of 2004 (the “2004 Act”) (Pub. L. 108-293). The 2004 Act amended 46 U.S.C. 3316 by adding paragraph (c), which prohibits certain activities of classification societies on a vessel in the United States that are not approved by the Coast Guard. The 2004 Act mandated that, after December 31, 2004, a classification society, including an employee or agent of that society, may not review, examine, survey, or certify the construction, repair, or alteration of a vessel in the United States unless the classification society is either approved by the Coast Guard or is a full member of the International Association of Classification Societies (IACS).

After publication of the notice of policy, we received questions from the public that were addressed in a notice of proposed rulemaking (NPRM) published in the Federal Register on April 23, 2010. The NPRM, titled “Approval of Classification Societies” (75 FR 21212), outlined the procedures and criteria we would use to evaluate classification societies. The comment period closed on July 22, 2010, and we received no comments on the proposed rule. No public meeting was requested and none was held.

Before the publication of the final rule, on October 15, 2010, the enactment of section 622 of the Coast Guard Authorization Act of 2010 (the “2010 Act”) (Pub. L. 111-281) amended 46 U.S.C. 3316(c). The 2010 Act changed the applicability to require that all classification societies, including IACS members, be approved by the Coast Guard prior to conducting any work on a vessel in the United States.

III. Discussion

In this notice, we are reopening the comment period for the NPRM to allow comments from all interested parties. The 2010 Act changed the applicability to require that all classification societies be approved by the Coast Guard prior to conducting any work on a vessel in the United States. Accordingly, in §§ 2.45-10(a), 2.45-15(a), and 2.45-30 of the proposed rule, we plan to delete all references to IACS members, in order to comply with our revised statutory authority. The 2010 Authorization Act requires IACS members to apply to the Coast Guard for approval under Title 46, United States Code, Section 3316(c), if they wish to continue performing work related to the certification of construction, repair, or alteration of vessels within the United States.

Dated: August 1, 2011.
J.G. Lantz,
Director of Commercial Regulations and Standards, U.S. Coast Guard.

[FR Doc. 2011-19862 Filed 8-4-11; 8:45 am]

BILLING CODE 9110-04-P